DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting by Web conference of the Intelligent Transportation Systems (ITS) Program Advisory Committee (ITSPAC). The Web conference will be held on February 24, 2010, from 3 p.m. to 4 p.m.

The ITSPAC, established under Section 5305 of Public Law 109-59, Safe, Accountable, Flexible, Efficient Transportation Equity Act: A Legacy for Users, August 10, 2005, and re-chartered on February 7, 2010, was created to advise the Secretary of Transportation on all matters relating to the study, development, and implementation of intelligent transportation systems. Through its sponsor, the ITS Joint Program Office, the ITSPAC makes recommendations to the Secretary regarding ITS Program needs, objectives, plans, approaches, content, and progress.

The following is a summary of the Web conference tentative agenda: (1) Welcome by RITA Deputy Administrator; (2) Meeting purpose and agenda review; (3) Overview of ITSPAC purpose, roles, and responsibilities; (4) Overview of the ITS Joint Program Office organization, management, and proposed mission; (5) Overview of the ITS Five-Year Strategic Research Plan; and (6) Brief ethics review.

Participation in the Web conference is open to the public, but limited conference lines will be available on a first come, first served basis. Members of the public who wish to participate must notify Mr. Stephen Glasscock, the Committee Designated Federal Official, at (202) 366-9126 not later than February 18, 2010, at which time the Web conference URL and teleconference phone number will be provided. Members of the public may present oral statements at the meeting with the approval of Ms. Shelley Row, Director of the ITS Joint Program Office. Non-committee members wishing to present oral statements or obtain information should contact Mr. Glasscock.

Questions about the agenda or written comments may be submitted by U.S. Mail to: U.S. Department of Transportation, Research and Innovative Technology Administration, ITS Joint Program Office, Attention: Stephen Glasscock, 1200 New Jersey Avenue, SE., HOIT, Washington, DC 20590 or faxed to (202) 493-2027. The ITS Joint Program Office requests that written comments be submitted prior to the meeting.

Notice of this meeting is provided in accordance with the FACA and the General Services Administration regulations (41 CFR part 102-3) covering management of Federal advisory committees.

Issued in Washington, DC, on the 2nd day of February 2010.
Shelley Row,
Director, ITS Joint Program Office.

[FR Doc. 2010-2649 Filed 2-5-10; 8:45 am]

BILLING CODE 4910-HY-P